DEPARTMENT OF COMMERCE

National Oceanic and Atmospheric Administration

[RTID 0648-XE315]

Transboundary Management Guidance Committee and Steering Committee Meetings

AGENCY: National Marine Fisheries Service (NMFS), National Oceanic and Atmospheric Administration (NOAA), Commerce.

ACTION: Notice of open public meeting.

SUMMARY: This notice provides the proposed schedule and agenda of the October 1-2, 2024, Transboundary Management Guidance Committee (TMGC) and U.S./Canada Transboundary Resources Steering Committee meetings. The members will meet and discuss concerns regarding transboundary resources outlined in the SUPPLEMENTARY INFORMATION section below.

DATES: The TMGC meeting will be held October 1-2, 2024, and the Steering Committee meeting will be held on October 3, 2024. Daily start and end times are included in the SUPPLEMENTARY INFORMATION section.

ADDRESSES: The hybrid meeting is being held at the Courtyard Boston Downtown/North Station Marriott, 107 Beverly Street, Boston, Massachusetts 02114. Space in the building is very limited, and any members of the public looking to attend in-person should reach out to Anjali Bhardwaj (Anjali.Bhardwaj@noaa.gov, 978-281-9293) for more information. Conference call and webinar access information for the TMGC meeting can be found here: https://www.nefmc.org/calendar/oct-1-3-2024-transboundary-management-guidance-committee-tmgc-meeting. Conference call and webinar access information for the Steering Committee meeting is located here: https://www.nefmc.org/calendar/oct-3-2024-u-s-canada-transboundary-resources-steering-committee-meeting.

FOR FURTHER INFORMATION CONTACT: Anjali Bhardwaj, Fishery Management Specialist, Anjali.Bhardwaj@noaa.gov, 978-281-9293.

SUPPLEMENTARY INFORMATION:

Meeting Agenda

The below agenda is subject to change.

Tuesday, October 1, 2024 From 9:30 a.m. to 5 p.m.

• 9:30 a.m.-9:45 a.m., Introductions and Discussion of Agenda

• 9:45 a.m.-10:15 a.m., Management Update

• 10:15 a.m.-10:30 a.m., Review and Discuss Domestic Science Information: 2024 Allocation Shares

• 10:30 a.m.-10:45 a.m., 2024 Domestic Science Information: Yellowtail Flounder

• 10:45 a.m.-11:30 a.m., 2024 Domestic Science Information: Atlantic Cod

• 11:30 a.m.-11:45 a.m., Break

• 11:45 a.m.-12:45 p.m., 2024 Domestic Science Information: Haddock

• 12:45 p.m.-2 p.m., Lunch

• 2 p.m.-3:30 p.m., Discussion of Guidance for 2025 Fishing Year

• 3:30 p.m.-3:45 p.m., Break

• 3:45 p.m.-5 p.m., Continued Discussion of Guidance for 2025 Fishing Year

• 5 p.m., Adjourn

Wednesday, October 2, 2024 From 9:30 a.m. to 4:30 p.m.

• 9:30 a.m.-10:45 a.m., Preparation of Guidance Document for 2025 Fishing Year

• 10:45 a.m.-11 a.m., Break

• 11 a.m.-12 p.m., Preparation of Guidance Document for 2025 Fishing Year

• 12 p.m.-1 p.m., Lunch

• 1 p.m.-2:30 p.m., CY 2025 Scientific Process Discussion

• 2:30 p.m.-2:45 p.m., Break

• 2:45 p.m.-4:30 p.m., Other Business

• 4:30 p.m., Adjourn

Thursday, October 3, 2024 From 8:30 a.m. to 11:55 a.m.

• 8:30 a.m.-8:45 a.m., Introductory Remarks from Steering Committee Co-Chairs

• 8:45 a.m.-9:15 a.m., Species at Risk Working Group Updates

• 9:15 a.m.-9:45 a.m., Domestic Stock Assessment Summaries

• 9:45 a.m.-10:30 a.m., Scientific Coordination Discussion

• 10:30 a.m.-11:15 a.m., TMGC Report

• 11:15 a.m.-11:35 a.m., Other Business as Needed

• 11:35 a.m.-11:55 a.m., Closing Remarks

Since the delineation of the international maritime boundary line in 1984, also known as the Hague Line, the United States and Canada have collaborated closely to sustainably manage shared transboundary fisheries resources, including Eastern Georges Bank cod, Eastern Georges Bank haddock, and Georges Bank yellowtail flounder stocks. In 2000, the TMGC was established to provide guidance to both countries on the management and shared catch advice for these transboundary fish stocks. The arrangement also allows for collaboration and the opportunity to provide feedback on domestic scientific processes while also coordinating research and enforcement activities.

Representatives from NOAA Fisheries and the New England Fishery Management Council serve on the U.S. delegation to the TMGC to recommend shared catch advice annually. Catch advice is based on the best scientific information available and an agreed upon resource sharing allocation formula that considers historical proportions of fishery landings by U.S. and Canadian fishermen, as well as resource distribution based on trawl surveys. The 2023 Transboundary Management Committee Guidance Document, which summarizes last year's meeting, can be located online at https://www.nefmc.org/calendar/sep-11-12-2023-transboundary-management-guidance-committee-tmgc-meeting.

Dated: September 19, 2024.
Karen H. Abrams,
Acting Director, Office of Sustainable Fisheries, National Marine Fisheries Service.

[FR Doc. 2024-21866 Filed 9-24-24; 8:45 am]

BILLING CODE 3510-22-P